FEDERAL COMMUNICATIONS COMMISSION

47 CFR Part 90

[WT Docket No. 99-87; RM-9332; FCC 03-34]

Implementation of the Communications Act of 1934 as Amended and Promotion of Spectrum Efficient Technologies on Certain Part 90 Frequencies

AGENCY: Federal Communications Commission.

ACTION: Final rule; correction.

SUMMARY: This document contains corrections to the final regulations, which were published Thursday, July 17, 2003 (68 FR 42296). The Wireless Telecommunications Bureau published final rules in the Order, document revising Commission rules amending and promoting spectrum efficient technologies on certain part 90 frequencies.

DATES: Effective September 15, 2003.

FOR FURTHER INFORMATION CONTACT: Scot Stone, Deputy Chief, Policy and Rules Branch, Public Safety and Private Wireless Division at (202) 418-0680.

SUPPLEMENTARY INFORMATION: The Wireless Telecommunications Bureau published a document revising the rules amending and promoting spectrum efficient technologies on certain part 90 frequencies in the Federal Register of July 17, 2003 (68 FR 42296). This document corrects the Federal Register as it appeared.

In the FR Doc. 03-18054 published in the Federal Register on July 17, 2003, (68 FR 42296) make the following corrections.

§ 90.35 [Amended]

1. On page 42306 in § 90.35 in paragraph (b)(3) of the table remove the entries for frequencies “151.820”, “151.880” and “151.940”.

2. On page 42306 in § 90.35 in paragraph (b)(3) of the table correct “151.2775” to read “152.2775”.

3. On page 42306 in § 90.35 in paragraph (b)(3) of the table correct “151.2925” to read “152.2925”.

§ 90.209 [Amended]

4. On page 42314 in § 90.209, in column three, correct paragraph (b)(6) to read as follows:

(6) No new applications for the 150-174 MHz and/or 421-512 MHz bands will be acceptable for filing if the applicant utilizes channels with an authorized bandwidth exceeding 11.25 kHz beginning January 13, 2004. For stations licensed or applied for prior to January 13, 2004, the licensee may transfer, assign, renew and modify the authorization consistent with the current rules. No modification applications for stations in the 150-174 MHz and/or 421-512 MHz bands that increase the station's authorized interference contour will be acceptable for filing if the applicant utilizes channels with an authorized bandwidth exceeding 11.25 kHz, beginning January 13, 2004. See § 90.187(b)(2)(iii) and (iv) of this chapter for interference contour designations and calculations. Applications submitted pursuant to this paragraph must comply with frequency coordination requirements of § 90.175 of this chapter.

Federal Communications Commission.
Marlene H. Dortch,
Secretary.

[FR Doc. 03-23794 Filed 9-17-03; 8:45 am]

BILLING CODE 6712-01-P